ENVIRONMENTAL PROTECTION AGENCY

40 CFR Parts 52 and 81

[EPA-R09-OAR-2013-0007; FRL-9798-3]

Approval and Promulgation of Implementation Plans; Designation of Areas for Air Quality Planning Purposes; State of California; PM10; Redesignation of the South Coast Air Basin to Attainment; Approval of PM10 Redesignation Request and Maintenance Plan for the South Coast Air Basin

AGENCY: Environmental Protection Agency (EPA).

ACTION: Proposed rule.

SUMMARY: EPA is proposing to approve, as a revision to the California state implementation plan, the State's request to redesignate the Los Angeles-South Coast Air Basin nonattainment area to attainment, which is currently designated serious nonattainment for the 1987 national ambient air quality standards for particulate matter of ten microns or less. EPA is also proposing to approve the PM10 maintenance plan and the associated motor vehicle emissions budgets for use in transportation conformity determinations necessary for the South Coast area. Finally, EPA is proposing to approve the attainment year emissions inventory. EPA is proposing these actions because the SIP revision meets the requirements of the Clean Air Act and EPA guidance for such plans and motor vehicle emissions budgets.

DATES: Any comments must be received on or before May 8, 2013.

ADDRESSES: Submit comments, identified by docket number EPA-R09-OAR-2013-0007, by one of the following methods:

1. http://www.regulations.gov. Follow the on-line instructions.

2. Email: tax.wienke@epa.gov.

3. Mail or Deliver: Wienke Tax (Air-2), U.S. Environmental Protection Agency Region IX, 75 Hawthorne Street, San Francisco, CA 94105-3901. Deliveries are only accepted during the Regional Office's normal hours of operation.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or email. http://www.regulations.gov is an anonymous access system, and EPA will not know your identity or contact information unless you provide it in the body of your comment.

If you send email directly to EPA, your email address will be automatically captured and included as part of the public comment. If EPA cannot read your comment due to technical difficulties and cannot contact you for clarification, EPA may not be able to consider your comment.

Docket: The index to the docket and documents in the docket for this action are generally available electronically at www.regulations.gov and in hard copy at EPA Region IX, 75 Hawthorne Street, San Francisco, California. While documents in the docket are listed in the index, some information may be publicly available only at the hard copy location (e.g., voluminous records, copyrighted material), and some may not be publicly available in either location (e.g., CBI). To inspect the hard copy materials, please schedule an appointment during normal business hours with the contact listed in the FOR FURTHER INFORMATION CONTACT section.

FOR FURTHER INFORMATION CONTACT: Wienke Tax, U.S. Environmental Protection Agency, Air Planning Office, Region IX, (415) 947-4192, tax.wienke@epa.gov.

SUPPLEMENTARY INFORMATION: Throughout this document, “we,” “us” and “our” refer to EPA.

Table of Contents

I. Summary of Today's Proposed Action

II. Background

A. The PM10 NAAQS

B. PM10 Planning Requirements

C. PM10 Attainment Plans for the South Coast Area

III. Procedural Requirements for Adoption and Submittal of SIP Revisions

IV. Substantive Requirements for Redesignation

V. Evaluation of the State's Redesignation Request for the South Coast PM10 Nonattainment Area

A. Determination That the Area Has Attained the PM10 NAAQS

B. The Area Has a Fully-Approved SIP Meeting Requirements Applicable for Purposes of Redesignation under Section 110 and Part D

1. Basic SIP Requirements under CAA Section 110

2. SIP Requirements under Part D

C. EPA has Determined that the Improvement in Air Quality is Due to Permanent and Enforceable Reductions in Emissions

D. The Area Must Have a Fully-Approved Maintenance Plan under CAA Section 175A

1. Attainment Inventory

2. Maintenance Demonstration

3. Verification of Continued Attainment

4. Contingency Provisions

5. Commitment to Submit Subsequent Maintenance Plan Revision

E. Transportation Conformity and Motor Vehicle Emissions Budgets

VI. Proposed Actions and Request for Public Comment

VII. Statutory and Executive Order Reviews

I. Summary of Today's Proposed Action

EPA is proposing to take several related actions. Under Clean Air Act (CAA or “the Act”) section 107(d)(3)(D), EPA is proposing to approve the State's request to redesignate the South Coast PM10 nonattainment area to attainment for the 24-hour PM10 NAAQS. We are doing so based on our conclusion that the area has met the five criteria for redesignation under CAA section 107(d)(3)(E): (1) That the area has attained the 24-hour PM10 NAAQS in the 2008-2010 time period and that the area continues to attain the PM10 standard since that time; (2) that relevant portions of the California state implementation plan (SIP) are fully approved; (3) that the improvement in air quality is due to permanent and enforceable reductions in emissions; (4) that California has met all requirements applicable to the South Coast PM10 nonattainment area with respect to section 110 and part D of the CAA; and (5) that the Final PM10 Redesignation Request and Maintenance Plan for the South Coast Air Basin (December 2009) (“2009 South Coast PM10 Redesignation Request and Maintenance Plan”) ¹ meets the requirements of section 175A of the CAA.

¹ See letter, James N. Goldstene, Executive Officer, to Jared Blumenfeld, Regional Administrator, EPA Region 9, dated April 28, 2010, with attachments.

In addition, under CAA section 110(k)(3), EPA is proposing to approve the maintenance plan including the motor vehicle emissions budgets (budgets) in the 2009 South Coast PM10 Redesignation Request and Maintenance Plan as a revision to the California SIP. EPA finds that the maintenance demonstration shows how the area will continue to attain the 24-hour PM10 NAAQS for at least 10 years beyond redesignation (i.e., through 2030). Finally, EPA is proposing to approve the attainment year emissions inventory under CAA section 172(c)(3). EPA is proposing these actions because the SIP revision meets the requirements of the CAA and EPA guidance for such plans and budgets.

Finally, with this Federal Register notice, EPA is notifying the public that we will be reviewing the maintenance plan budgets for adequacy. This begins the public comment period on adequacy; see DATES section of this notice for the closing date of the comment period.

II. Background

A. The PM10 NAAQS

EPA sets the NAAQS for certain ambient air pollutants at levels required to protect public health and welfare. Particulate matter with an aerodynamic diameter less than or equal to a nominal ten micrometers, or PM10, is one of the ambient air pollutants for which EPA has established health-based standards.

EPA revised the NAAQS for particulate matter on July 1, 1987 (52 FR 24633), replacing standards for total suspended particulates (TSP less than 30 microns in diameter) with new standards applying only to particulate matter up to 10 microns in diameter (PM10). At that time, EPA established two PM10 standards, an annual standard and a 24-hour standard. An area attains the 24-hour PM10 standard of 150 micrograms per cubic meter (μg/m³) when the expected number of days per calendar year with a 24-hour concentration in excess of the standard (referred to as an exceedance), is equal to or less than one.² The annual PM10 standard is attained when the expected annual arithmetic mean of the 24-hour samples averaged over a 3-year period does not exceed 50 μg/m³. See 40 CFR 50.6 and 40 CFR part 50, Appendix K.

² An exceedance is defined as a daily value that is above the level of the 24-hour standard, 150 μg/m³, after rounding to the nearest 10 μg/m³ (i.e., values ending in five or greater are to be rounded up). Thus, a recorded value of 154 μg/m³ would not be an exceedance since it would be rounded to 150 μg/m³; whereas, a recorded value of 155 μg/m³ would be an exceedance since it would be rounded to 160 μg/m³. See 40 CFR part 50, Appendix K, section 1.0.

On July 18, 1997, EPA established new national ambient air quality standards (NAAQS) for particulate matter less than 2.5 microns (fine particulate or PM2.5). 62 FR 38652. In the 1997 PM NAAQS revision, EPA also revised the standards for PM10 but these revised PM10 standards were later vacated by the court, and the 1987 PM10 standards remain in effect.

In an October 17, 2006 PM NAAQS revision, the 24-hour PM10 standards were retained but the annual standards were revoked effective December 18, 2006. 71 FR 61144 (October 17, 2006). On January 13, 2013, EPA announced that it was again retaining the 24-hour PM10 NAAQS as a 24-hour standard of 150 micrograms per cubic meter (μg/m³). See 78 FR 3086. This SIP submittal addresses the 24-hour PM10 standard as originally promulgated in 1987 and reaffirmed on January 13, 2013.

B. PM10 Planning Requirements

Once an area is designated nonattainment, section 188 of the CAA outlines the process for classification of the area and establishes the area's attainment date. In accordance with section 188(a), at the time of designation, all PM10 nonattainment areas, including the Los Angeles-South Coast Air Basin (“South Coast”),³ were initially classified as moderate by operation of law. Section 188(b)(1) of the Act further provides that moderate areas can subsequently be reclassified as serious before the applicable moderate area attainment date if at any time EPA determines that the area cannot “practicably” attain the PM10 NAAQS by this attainment date.

³ The South Coast air basin includes Orange County, the southwestern two-thirds of Los Angeles County, southwestern San Bernardino County, and western Riverside County (see 40 CFR 81.305).

On the date of enactment of the 1990 CAA Amendments, PM10 areas, including the South Coast, meeting the qualifications of section 107(d)(4)(B) of the amended Act, were designated nonattainment by operation of law. See 56 FR 11101 (March 15, 1991) and 40 CFR 81.305.

Direct PM10 emissions in the South Coast are dominated by reentrained road dust from paved and unpaved roads, construction and demolition, and on-and off-road mobile sources. Of these, according to the inventory in the 2009 South Coast PM10 Redesignation Request and Maintenance Plan, the majority of direct PM10 emissions come from reentrained road dust from paved roads. Within the South Coast air basin, in addition to being directly emitted into the atmosphere (e.g., primary particles), PM10 emissions can be formed through atmospheric chemical reactions from precursor gases (e.g., secondary particles). Secondary particles, such as sulfates, nitrates, and complex carbon compounds, are formed from reactions with oxides of sulfur (SOX), oxides of nitrogen (NOX), volatile organic compounds (VOCs), and ammonia (NH3). The District includes emissions inventories in the 2009 South Coast PM10 Redesignation Request and Maintenance Plan for precursors of PM10 (notably NOX, and to a lesser extent, SOX and VOCs). The District estimates that 56% of the total mass of average peak concentrations of PM10 is attributable to PM2.5 and 44% to coarse PM (fugitive dust or PM10). See 2009 South Coast PM10 Redesignation Request and Maintenance Plan, p. 5.

The 1990 CAA Amendments established new planning requirements and attainment deadlines for the NAAQS. The most fundamental of these nonattainment area provisions applicable to the South Coast is the requirement that the State submit a SIP demonstrating attainment of the PM10 NAAQS. This demonstration must be based upon enforceable measures to achieve emission reductions leading to emissions at or below the level predicted to result in attainment of the NAAQS throughout the nonattainment area. CAA section 189(a).

EPA determined on January 8, 1993, that the South Coast could not practicably attain the PM10 NAAQS by the applicable attainment deadline for moderate areas (December 31, 1994, per section 188(c)(1) of the Act), and reclassified the area as serious (58 FR 3334). In accordance with section 189(b)(1) of the Act, the State was required to make the following SIP submittals. First, the State had to submit by August 8, 1994, a SIP to ensure the implementation of best available control measures (BACM) no later than four years after reclassification, as required by CAA section 189(b)(1)(B). Second, the State had to submit a SIP by February 8, 1997, providing for progress and expeditious attainment, as required by CAA section 189(b)(1)(A). Because the State requested an extension of the attainment date for the South Coast beyond the applicable deadline of December 31, 2001, under CAA section 188(e) the State also had to demonstrate that the 1997 plan included the MSM that are included in any implementation plan or are achieved in practice, and can feasibly be implemented in the area.

C. PM10 Attainment Plans for the South Coast Area

Beginning in the 1970s and continuing to the present, the South Coast Air Quality Management District (SCAQMD) and CARB have adopted a number of rules and prepared a number of nonattainment plans to address planning requirements under the CAA. CARB submitted these rules and plans to EPA at various times, and EPA approved a number of them into the California SIP. Examples of rules adopted by SCAQMD and approved by EPA as revisions to the California SIP as part of the PM10 control strategy in the South Coast PM10 nonattainment area include: Rule 403—Fugitive Dust; Rule 1186—PM10 Emissions from Paved and Unpaved Roads, and Livestock Operations; Rule 1156—PM10 Emissions Reductions from Cement Manufacturing Facilities; and Rule 1157—PM10 Emissions Reductions from Aggregate and Related Operations. In addition, SCAQMD has adopted and implemented numerous rules that address PM10 precursors such as NOX, VOCs, and SOX.

CARB also adopted rules that reduce PM10 and PM10 precursor emissions. Examples of rules adopted by CARB and approved by EPA as revisions to the California SIP that have reduced PM10 or PM10 precursors in the South Coast PM10 nonattainment area include: California Code of Regulations (CCR) Title 13, Section 2025 (“Regulation to Reduce Emissions of Diesel Particulate Matter, Oxides of Nitrogen and other Criteria Pollutants, from In-Use Heavy-Duty Diesel-Fueled Vehicles”); Section 2027 (“In-Use On-Road Diesel-Fueled Heavy-Duty Drayage trucks”); and Section 2262—California Reformulated Gasoline Phase 2 and Phase 3 Standards.

The SCAQMD has adopted and CARB has submitted a number of PM10 attainment plans and regulations for the South Coast PM10 nonattainment area. In 2003, EPA fully approved a PM10 attainment plan for the South Coast as meeting all CAA requirements for serious PM10 nonattainment areas, including BACM and MSM, and as part of that action we also granted attainment date extensions for the area for both the 24-hour and annual PM10 NAAQS, from December 31, 2001 to December 31, 2006, pursuant to CAA section 188(e). For more information on the 2003 approval of the South Coast PM10 plan, please see our proposed and final rulemaking notices. The proposal was issued on December 17, 2002 (67 FR 77212) and the final approval was issued on April 18, 2003 (68 FR 19316).

On August 1, 2003, the SCAQMD adopted the 2003 South Coast Air Quality Management Plan (“2003 South Coast AQMP”), including the motor vehicle emissions budgets for the areas. CARB approved the plans on October 23, 2003, and submitted the plans to us on January 9, 2004. We proposed to approve the portions of the 2003 South Coast AQMP relating to attainment of the PM10 standards on July 28, 2005 (see 70 FR 43663) and finalized our approval on November 14, 2005 (see 70 FR 69081).

III. Procedural Requirements for Adoption and Submittal of SIP Revisions

The SCAQMD adopted the 2009 South Coast PM10 Redesignation Request and Maintenance Plan on January 8, 2010 and forwarded it to CARB on January 15, 2010. CARB held a Board Hearing on March 25, 2010 to adopt the 2009 South Coast PM10 Maintenance Plan. The plan was submitted to EPA on April 28, 2010.⁴

⁴ See letter, James N. Goldstene, Executive Officer, to Jared Blumenfeld, Regional Administrator, EPA Region 9, dated April 28, 2010.

CARB's SIP submittal includes the following documents: (1) April 28, 2010 letter to Jared Blumenfeld, Regional Administrator, U.S. EPA Region 9, from James N. Goldstene, Executive Officer, CARB transmitting the redesignation request and maintenance plan; (2) January 15, 2010 transmittal letter to James N. Goldstene, Executive Officer, CARB, from Elaine Chang, DrPH, Deputy Executive Officer, SCAQMD; (3) October 17, 2009 Proof of Publication of Public Notice for Public Hearing on “Final PM10 Redesignation Request and Maintenance Plan for the South Coast Air Basin (December 2009)” and the January 8, 2010 SCAQMD Board Hearing; (4) Transcripts of public hearings; (5) SCAQMD Board Resolution of Adoption 10-1 approving and adopting the 2009 South Coast PM10 Maintenance Plan; (6) CARB's February 17, 2010 Notice of Public Hearing for consideration of the adoption and approval of the 2009 South Coast PM10 Maintenance Plan and associated motor vehicle emissions budgets on March 25, 2010; (7) Final PM10 Redesignation Request and Maintenance Plan for the South Coast Air Basin (December 2009); (8) CARB Board Resolution 10-21 adopting the 2009 South Coast PM10 Maintenance Plan; and (9) motor vehicle emissions budgets adopted at the CARB Board hearing. All of these documents are available for review in the docket for today's proposed rule.

Sections 110(a)(1) and 110(l) of the Act require States to provide reasonable notice and public hearing prior to adoption of SIP revisions. CARB's submittal of the 2009 South Coast PM10 Redesignation Request and Maintenance Plan documents the public review process followed by SCAQMD in adopting the plan prior to transmittal to CARB for subsequent submittal to EPA as a revision to the California SIP. The documentation provides evidence that reasonable notice of a public hearing was provided to the public and that a public hearing was conducted prior to adoption. Specifically, notices for public workshops on December 15, 16, 17, and 18, 2009 and the January 8, 2010 SCAQMD Governing Board hearing were published on October 17 and 21, 2009. The Draft Plan was also made available for viewing on the District's Web site and at the District office on and after October 21, 2009.

Attachments 7 and 8 of the District's 2009 South Coast PM10 Redesignation Request and Maintenance Plan submittal to CARB document the adoption of the 2009 South Coast PM10 Redesignation Request and Maintenance Plan by the SCAQMD Governing Board via Board Resolution 10-1. On January 8, 2010, the SCAQMD Governing Board approved the 2009 South Coast PM10 Redesignation Request and Maintenance Plan and directed SCAQMD staff to forward the plan to CARB, the Governor of California's designee for SIP matters. The motor vehicle emissions budgets contained in the 2009 South Coast PM10 Redesignation Request and Maintenance Plan were withdrawn prior to the SCAQMD Board adoption.

On February 17, 2010, the CARB Board noticed a public hearing for March 25, 2010 to consider and approve the 2009 South Coast PM10 Redesignation Request and Maintenance Plan and revised motor vehicle emissions budgets. On April 28, 2010, CARB submitted the 2009 South Coast PM10 Redesignation Request and Maintenance Plan and budgets plus accompanying documentation to EPA for approval as a revision to the California SIP.⁵

⁵ Ibid.

Both the SCAQMD and CARB satisfied applicable statutory and regulatory requirements for reasonable public notice and hearing prior to adoption of the SIP revisions. The SCAQMD conducted numerous public workshops, and properly noticed the public hearing at which the plan was adopted. The SIP submittals include proof of publication for notices of the public hearings. Therefore, we conclude that the SIP submittals have met the public notice and involvement requirements of section 110(a)(1) of the CAA. Based on the documentation submitted with the plan, we find that the submittal of the South Coast PM10 Maintenance Plan as a SIP revision satisfies the procedural requirements of section 110(l) of the Act for revising SIPs.

CAA section 110(k)(1)(B) requires EPA to determine whether a SIP submittal is complete within 60 days of receipt. This section also provides that any plan that we have not affirmatively determined to be complete or incomplete will become complete six months after the day of submittal by operation of law. A completeness review allows us to determine if the submittal includes all the necessary items and information we need to act on it.

We make completeness determinations using criteria we have established in 40 CFR part 51, Appendix V. These criteria fall into two categories: Administrative information and technical support information. The administrative information provides documentation that the State has followed basic administrative procedures during the SIP-adoption process and thus we have a legally-adopted SIP revision in front of us. The technical support information provides us the information we need to determine the impact of the proposed revision on attainment and maintenance of the air quality standards.

We notify a state of our completeness determination by letter unless the submittal becomes complete by operation of law. A finding of completeness does not approve the submittal as part of the SIP nor does it indicate that the submittal is approvable. It does start a 12-month clock for EPA to act on the SIP submittal. See CAA section 110(k)(2). The 2009 South Coast PM10 Redesignation Request and Maintenance Plan became complete by operation of law on October 28, 2010.

IV. Substantive Requirements for Redesignation

The CAA establishes the requirements for redesignation of a nonattainment area to attainment. Specifically, section 107(d)(3)(E) allows for redesignation provided that the following criteria are met: (1) EPA determines that the area has attained the applicable NAAQS; (2) EPA has fully approved the applicable implementation plan for the area under section 110(k); (3) EPA determines that the improvement in air quality is due to permanent and enforceable reductions in emissions resulting from implementation of the applicable SIP, applicable federal air pollution control regulations, and other permanent and enforceable reductions; (4) EPA has a fully-approvable maintenance plan for the area meeting the requirements of CAA section 175A; and (5) the State containing such area has met all requirements applicable to the area under section 110 and part D of the CAA.

EPA provided guidance on redesignations in a document entitled, “State Implementation Plans; General Preamble for the Implementation of Title I of the Clean Air Act Amendments of 1990,” published in the Federal Register on April 16, 1992 (57 FR 13498), and supplemented on April 28, 1992 (57 FR 18070) (referred to herein as the “General Preamble”). Other relevant EPA guidance documents include: “Procedures for Processing Requests to Redesignate Areas to Attainment,” Memorandum from John Calcagni, Director, Air Quality Management Division, EPA Office of Air Quality Planning and Standards, September 4, 1992 (referred to herein as the “Calcagni memo”); “State Implementation Plans for Serious PM10 Nonattainment Areas, and Attainment Date Waivers for PM10 Nonattainment Areas Generally; Addendum to the General Preamble for the Implementation of title I of the Clean Air Act Amendments of 1990,” 59 FR 41998 (August 16, 1994) (PM10 Addendum); and “Part D New Source Review (part D NSR) Requirements for Areas Requesting Redesignation to Attainment,” Memorandum from Mary D. Nichols, Assistant Administrator for Air and Radiation, October 14, 1994 (Nichols Memo).

In this proposed rulemaking action, EPA applies these policies to the 2009 South Coast PM10 Redesignation Request and Maintenance Plan, taking into consideration the specific factual issues presented. For the reasons set forth in section V of this document, we propose to approve CARB's request for redesignation of the South Coast PM10 nonattainment area to attainment for the 24-hour PM10 NAAQS based on our conclusion that all of the criteria under CAA section 107(d)(3)(E) have been satisfied.

V. Evaluation of the State's Redesignation Request for the South Coast PM10 Nonattainment Area

A. Determination That the Area Has Attained the PM10 NAAQS

CAA section 107(d)(3)(E)(i) requires that we determine that the area has attained the NAAQS. Generally, EPA determines whether an area's air quality is meeting the 24-hour PM10 NAAQS based upon complete,⁶ quality-assured, and certified data gathered at established state and local air monitoring stations (SLAMS) in the nonattainment area, and entered into the EPA Air Quality System (AQS) database. Data from air monitors operated by state, local, or tribal agencies in compliance with EPA monitoring requirements must be submitted to AQS. These monitoring agencies certify annually that these data are accurate to the best of their knowledge. Accordingly, EPA relies primarily on data in AQS when determining the attainment status of an area. See 40 CFR 50.6; 40 CFR part 50, appendices J and K; 40 CFR part 53; and, 40 CFR part 58, appendices A, C, D, and E.⁷

⁶ For PM10, a complete set of data includes a minimum of 75 percent of the scheduled PM10 samples per quarter. See 40 CFR part 50, Appendix K, section 2.3(a).

⁷ Because the annual PM10 standard was revoked effective December 18, 2006, this document discusses only attainment of the 24-hour PM10 standard. See 71 FR 61144; (October 17, 2006).

In the South Coast PM10 nonattainment area, the agency responsible for assuring that the area meets air quality monitoring requirements is SCAQMD. Both CARB and SCAQMD submit annual monitoring network plans to EPA. SCAQMD network plans describe the monitoring network operated by SCAQMD in the South Coast nonattainment area. These plans discuss the status of the air monitoring network, as required under 40 CFR 58.10. SCAQMD operates 23 air quality monitoring stations for PM10 in the South Coast Air Basin. As required by 40 CFR part 58, the District conducts annual reviews of the air quality monitoring network that are forwarded to CARB and EPA for evaluation. Since 2007, EPA regularly reviews these annual plans for compliance with the applicable reporting requirements in 40 CFR part 58. With respect to PM10, EPA has found that the area's network plans, submitted by SCAQMD, meet the applicable requirements of 40 CFR part 58. See EPA letters to SCAQMD approving their annual network plans for the years 2008, 2009, 2010, and 2011.8 9 10 11

⁸ Letter from Sean Hogan, Manager, Air Quality Analysis Office, U.S. EPA Region IX, to Dr. Chung Liu, Deputy Executive Officer, SCAQMD, dated May 30, 2008.

⁹ Letter from Joe Lapka, Acting Manager, Air Quality Analysis Office, U.S. EPA Region IX, to Dr. Chung Liu, Deputy Executive Officer, SCAQMD, dated November 12, 2009.

¹⁰ Letter from Matthew Lakin, Manager, Air Quality Analysis Office, U.S. EPA Region IX, to Dr. Chung Liu, Deputy Executive Officer, SCAQMD, dated November 1, 2010.

¹¹ Letter from Matthew Lakin, Manager, Air Quality Analysis Office, U.S. EPA Region IX, to Dr. Chung Liu, Deputy Executive Officer, SCAQMD, dated November 1, 2011.

EPA also concluded from its Technical System Audit of the CARB Primary Quality Assurance Organization (PQAO) (conducted during the spring of 2010), that the combined ambient air monitoring network operated by SCAQMD currently meets or exceeds the requirements for the minimum number of SLAMS for PM10 in the South Coast nonattainment area.¹² SCAQMD annually certifies that the data it submits to AQS are complete and quality-assured.¹³

¹² Technical System Audit Report, South Coast Air Quality Management District, April 13-April 16, 2010, Conducted by Air Quality Analysis Office and Quality Assurance Office, US EPA Region 9, 75 Hawthorne Street, San Francisco, California 94105, March 2011.

¹³ See, e.g., letter from Chung Liu, Deputy Executive Officer Science and Technology Advancement, South Coast Air Quality Management District, to Jared Blumenfeld, Regional Administrator, U.S. EPA Region IX, certifying calendar year 2011 ambient air quality data and quality assurance data, May 1, 2012, in the docket for today's action.

Complete, quality-assured data since 2007 show that the area has been attaining the standard beginning in 2008. Since comprehensive monitoring began for PM10 in the South Coast in the 1960s, the area has seen a significant decline in ambient levels. Table 1 displays the PM10 data for the South Coast area for the years 2006-2012. All data except 2012 data have been certified by SCAQMD. Data for all sites exceed 75% annual completeness.¹⁴

¹⁴ See EPA, Air Quality System Design Value Reports dated December 18, 2012-January 2, 2013 for completeness information, as well as the TSD. The reports and TSD can be found in the docket for today's action.

24-hour PM10 levels in South Coast are below the standard with no or zero expected exceedances for the 2008-2011 period at all sites in the South Coast nonattainment area, the most recent 3-year period of certified, quality-assured data.¹⁵ See EPA, Air Quality System, Design Value Report, January 2nd, 2013.

¹⁵ See EPA, Air Quality System Design Value Reports dated December 18, 2012-January 2, 2013 in the docket for today's action. A design value is an ambient concentration calculated using a specific methodology from monitored air quality data and is used to compare an area's air quality to a NAAQS. The methodologies for calculating expected exceedances for the 24-hour PM10 NAAQS are found in 40 CFR Part 50, Appendix K, Section 2.1(a).

Therefore, EPA is determining that the South Coast PM10 nonattainment area has attained the 1987 24-hour PM10 standard and continues to attain the standard to date based on the most recent available AQS data. In addition, preliminary air quality data for the year 2012 indicates that the area is continuing to attain. EPA expects to have certified data for 2012 before finalizing any proposal and will include an analysis of any available preliminary data for 2013.

Table 1—South Coast PM10 Air Quality Monitoring Data
Site | Expected exceedances: 2006-2008 | Expected exceedances: 2007-2009 | Expected exceedances: 2008-2010 | Expected exceedances: 2009-2011 | Expected exceedances: 2010-2012 ᵃ
Azusa | 2 | 2 | 0 | 0 | 0
Burbank | 0 | 0 | 0 | 0 | 0
Glendora | 0 | 0 | 0 | 0 | 0
LAX Hastings | 0 | 0 | 0 | 0 | 0
Los Angeles—Main St. | 0 | 0 | 0 | 0 | 0
North Long Beach | 2 | 2 | 0 | 0 | 0
Santa Clarita | 2 | 2 | 0 | 0 | 0
South Long Beach | 0 | 0 | 0 | 0 | 0
Anaheim | 2 | 2 | 0 | 0 | 0
Mission Viejo | 0 | 0 | 0 | 0 | 0
Banning | 0 | 0 | 0 | 0 | 0
Lake Elsinore | 0 | 0 | 0 | 0 | 0
Mira Loma (Van Buren) | 0 | 0 | 0 | 0 | 0
Norco | 2 | 2 | 0 | 0 | 0
Perris | 9.7 | 9.7 | 0 | 0 | 0
Riverside (Magnolia) |  |  | 0 | 0 | 0
Rubidoux | 1 | 1 | 0 | 0 | 0
Crestline | 0 | 0 | 0 | 0 | 0
Fontana | 4.4 | 4.4 | 0 | 0 | 0
Ontario Fire Station | 2 | 2 | 0 | 0 | 0
Redlands | 0 | 0 | 0 | 0 | 0
San Bernardino | 2 | 2 | 0 | 0 | 0
Upland | n/a | 0 | 0 | 0 | 0
ᵃ 2012 data have not been certified.

B. The Area Has a Fully-Approved SIP Meeting Requirements Applicable for Purposes of Redesignation Under Section 110 and Part D

Section 107(d)(3)(E)(ii) and (v) require EPA to determine that the area has a fully-approved SIP under section 110(k) that meets all applicable requirements under section 110 and part D for the purposes of redesignation.

EPA may rely on prior SIP approvals in approving a redesignation request. Calcagni memo p. 3, Wall v. EPA F.3d 416 (6th Cir. 2001), Southwestern Pennsylvania Growth Alliance v. Browner, 144 F.3d 984, 989-90 (6th Cir. 1998), as well as any additional measures it may approve in conjunction with a redesignation action. See 68 FR 25418, at 25426 (May 12, 2003), and citations therein.

1. Basic SIP Requirements Under CAA Section 110

The general SIP elements and requirements set forth in section 110(a)(2) include, but are not limited to, the following: Submittal of a SIP that has been adopted by the State after reasonable public notice and hearing; provisions for establishment and operation of appropriate procedures needed to monitor ambient air quality; implementation of a source permit program; provision for the implementation of part C requirements for prevention of significant deterioration (PSD) provisions; provisions for the implementation of part D requirements for nonattainment new source review (nonattainment NSR) permit programs; provisions for air pollution modeling; and provisions for public and local agency participation in planning and emission control rule development.

We note that SIPs must be fully approved only with respect to applicable requirements for purposes of redesignation in accordance with section 107(d)(3)(E)(ii). The section 110 (and part D) requirements that are linked to a particular nonattainment area's designation and classification are the relevant measures to evaluate in reviewing a redesignation request. Requirements that apply regardless of the designation of any particular area in the State are not applicable requirements for the purposes of redesignation, and the State will remain subject to these requirements after the South Coast PM10 nonattainment area is redesignated to attainment.

For example, CAA section 110(a)(2)(D) requires that SIPs contain certain measures to prevent sources in a state from significantly contributing to air quality problems in another state, known as “transport SIPs.” Because the section 110(a)(2)(D) requirements for transport SIPs are not linked to a particular nonattainment area's designation and classification but rather apply regardless of the attainment status, these are not applicable requirements for the purposes of redesignation under section 107(d)(3)(E).

Similarly, EPA believes that other section 110 (and part D) requirements that are not linked to nonattainment plan submittals or to an area's attainment status are not applicable requirements for purposes of redesignation. EPA believes that the section 110 (and part D) requirements that relate to a particular nonattainment area's designation and classification are the relevant measures to evaluate in reviewing a redesignation request. This view is consistent with EPA's existing policy on applicability of the conformity SIP requirement for redesignations. See discussion in 75 FR 36023, 36026 (June 24, 2010).

On numerous occasions over the past 35 years, CARB and the District have submitted and EPA has approved provisions addressing the basic CAA section 110 provisions. The South Coast portion of the approved California SIP contains enforceable emissions limitations; requires monitoring, compiling, and analyzing of ambient air quality data; requires preconstruction review of new or modified stationary sources; provides for adequate funding, staff, and associated resources necessary to implement its requirements; and provides the necessary assurances that the State maintains responsibility for ensuring that the CAA requirements are satisfied in the event that South Coast is unable to meet its CAA requirements. There are no outstanding or disapproved applicable section 110 SIP submittals with respect to the State and the SCAQMD.¹⁶ We propose to conclude that CARB and the SCAQMD have met all SIP requirements for the South Coast air basin applicable for purposes of redesignation for the PM10 NAAQS under section 110 of the CAA (General SIP Requirements).

¹⁶ The applicable California SIP for all nonattainment areas can be found at: http://yosemite.epa.gov/r9/r9sips.nsf/Casips?readform&count=100&state=California.

2. SIP Requirements Under Part D

Subparts 1 and 4 of part D, title 1 of the CAA contain air quality planning requirements for PM10 nonattainment areas. Subpart 1 contains general requirements for all nonattainment areas of any pollutant, including PM10, governed by a NAAQS. The subpart 1 requirements include, among other things, provisions for reasonable available control measures (RACM), reasonable further progress (RFP), emissions inventories, contingency measures, and conformity. Subpart 4 contains specific planning and scheduling requirements for PM10 nonattainment areas. Section 189(a), (c), and (e) requirements apply specifically to moderate PM10 nonattainment areas and include: (1) An approved permit program for construction of new and modified major stationary sources; (2) provisions for RACM; (3) an attainment demonstration; (4) quantitative milestones demonstrating RFP toward attainment by the applicable attainment date; and (5) provisions to ensure that the control requirements applicable to major stationary sources of PM10 also apply to major stationary sources of PM10 precursors except where the Administrator has determined that such sources do not contribute significantly to PM10 levels that exceed the NAAQS in the area.

With respect to the requirements associated with subpart 4, as discussed above, we have approved PM10 SIPs for the South Coast as meeting the requirements of CAA section 189(a)(1)(B) for an attainment demonstration, CAA sections 172(c) and 189(1)(C) for RACM, CAA section 189(c)(1) for an RFP demonstration, and contingency measures under 172(c)(9). We also approved the South Coast 1997 AQMP, 1998 and 1999 Amendments, and 2002 revisions as meeting BACM requirements for serious PM10 nonattainment areas (see our proposed rule at 67 FR 77212 (December 17, 2002) and our final rule at 68 FR 19316 (April 18, 2003)). The 2002 SIP also demonstrated that the plan included MSM pursuant to CAA 188(e). See 67 FR 77212, at 77216 (December 17, 2002).

Permits for New and Modified Major Stationary Sources

CAA sections 172(c)(5) and 189(a)(1)(A) require the State to submit SIP revisions that establish certain requirements for new or modified stationary sources in nonattainment areas, including provisions to ensure that major new sources or major modifications of existing sources of nonattainment pollutants incorporate the highest level of control, referred to as the Lowest Achievable Emission Rate (LAER), and that increases in emissions from such stationary sources are offset so as to provide for reasonable further progress towards attainment in the nonattainment area. The process for reviewing permit applications and issuing permits for new or modified stationary sources in nonattainment areas is referred to as “nonattainment New Source Review” (nonattainment NSR).

With respect to the part D requirements for a nonattainment NSR permit program for construction of new and modified major stationary sources, EPA has previously approved nonattainment NSR rules (SCAQMD Regulation XIII—New Source Review) for the SCAQMD, which cover the South Coast air basin. NSR for point sources of PM10 and PM10 precursors is addressed through the SCAQMD's NSR program (Regulation XIII). We approved the District's NSR program on December 4, 1996 (see 61 FR 64291), as well as two revisions at 64 FR 13514 (March 19, 1999), and a final rule at 71 FR 35157 (June 19, 2006)) as satisfying the NSR requirements in title I, part D of the CAA. Table 2 shows the adoption, submittal, and SIP approval status of the District's NSR rules.

Table 2—Most Recent Adoption, Submittal, and SIP Approval Status of SCAQMD's NSR Rules
Rule | Adoption | Submittal to EPA | Approval date | Federal Register citation
1301 General | 12/07/95 | 08/28/96 | 12/04/96 | 61 FR 64291.
1302 Definitions | 12/07/95 | 03/10/98 | 03/19/99 | 64 FR 13514.
1303 Requirements | 05/10/96 | 08/28/96 | 12/04/96 | 61 FR 64291.
1304 Exemptions from Regulation XIII | 06/14/96 | 08/28/96 | 12/04/96 | 61 FR 64291.
1305 Special Permit Provisions | 04/06/84 | 07/10/84 | 01/29/85 | 50 FR 3906.
1306 Emission Calculations | 06/14/96 | 08/28/96 | 12/04/96 | 61 FR 64291.
1309 Emission Reduction Credits | 12/07/95 | 08/28/96 | 12/04/96 | 61 FR 64291.
1309.1 Priority Reserve | 05/03/2002 | 12/23/2002 | 06/19/06 | 71 FR 35157.
1310 Analysis, Notice, and Reporting | 12/07/95 | 08/28/96 | 12/04/96 | 61 FR 64291.
1313 Permits to Operate | 12/07/95 | 08/28/96 | 12/04/96 | 61 FR 64291.
1315 Federal New Source Review Tracking System | 2/4/11 | 3/2/11 | 5/25/12 | 77 FR 31200.

Final approval of the NSR program, however, is not a prerequisite to finalizing our proposed approval of the State's redesignation request. EPA has determined in past redesignations that a NSR program does not have to be approved prior to redesignation, provided that the area demonstrates maintenance of the standard without part D NSR requirements in effect. The rationale for this position is described in a memorandum from Mary Nichols, Assistant Administrator for Air and Radiation, dated October 14, 1994, entitled “Part D NSR Requirements for Areas Requesting Redesignation to Attainment.” See the more detailed explanations in the following redesignation rulemakings: Detroit, MI (60 FR 12459, at 12467-12468, March 7, 1995); Cleveland-Akron-Lorrain, OH (61 FR 20458, 20469-20470, May 7, 1996); Louisville, KY (66 FR 53665, 53669, October 23, 2001); Grand Rapids, MI (61 FR 31831, 31836-31837, June 21, 1996); and San Joaquin Valley, CA (73 FR 22307, 22313, April 25, 2008 and 73 FR 66759, 66766-7, November 12, 2008).

The requirements of the PSD program under Part C will apply to PM10 rather than Regulation XIII once the area has been redesignated. See SCAQMD Rule 1303(b). Thus, new major sources of PM10 emissions and major modifications at major sources of PM10 as defined under 40 CFR 52.21 will be required to obtain a PSD permit or include PM10 emissions in their existing PSD permit. SCAQMD is the PSD permitting authority in the South Coast air basin, and operates a delegated PSD program.¹⁷

¹⁷ See U.S. EPA—South Coast Air Quality Management District Agreement for Partial Delegation of Authority to Issue and Modify Prevention of Significant Deterioration Permits Subject to 40 CFR 52.21, dated July 25, 2007, in the docket for today's action.

California has made clear to EPA that the maintenance demonstration in the redesignation request and maintenance plan for the South Coast PM10 nonattainment area does not rely on the continued implementation of nonattainment NSR (i.e., offsets to mitigate emissions growth) to demonstrate maintenance of the PM10 standard.¹⁸

¹⁸ See Letter, Elaine Chang, DrPH, Deputy Executive Officer, South Coast Air Quality Management District, to Deborah Jordan, Director, Air Division, US Environmental Protection Agency, Region 9, dated March 21, 2013 in the docket for today's action.

Control Requirements for PM10 Precursors

Section 189(e) of the CAA requires that the control requirements applicable under the part D SIP for major stationary sources of PM10 also apply to major stationary sources of PM10 precursors, except where the Administrator determines that such sources do not contribute significantly to PM10 levels that exceed the standard in the area. South Coast's PM10 Redesignation Request and Maintenance Plan indicates that NOX, VOCs and SOX are PM10 precursors in the secondary formation of atmospheric aerosols, which are a significant component of PM10 concentrations in the South Coast area.¹⁹ To satisfy ozone and PM2.5 nonattainment requirements in CAA section 182(b), SCAQMD has adopted and EPA has approved RACM for NOX, VOCs, SOX, and directly-emitted PM2.5, and Reasonably Available Control Technology (RACT) rules to reduce NOX and VOC emissions from existing sources.²⁰ These rules also address the control requirements in CAA section 189(e) because they control NOX, VOC, SOX and PM2.5 emissions from major stationary sources. Major stationary sources of NOx and VOC are also controlled by Regulation XIII, which is the District's nonattainment NSR permitting program.

¹⁹ The 2009 South Coast PM10 Maintenance Plan indicates that PM10 in the South Coast air basin consists of 56% PM2.5 and 44% PM10 (PM10 is dominated by fugitive dust.) See 2009 South Coast PM10 Maintenance Plan, pages 5 and 17.

²⁰ See Final 2007 Air Quality Management Plan, South Coast Air Quality Management District, June 2007, especially Appendices IV-A through IV-C, and 76 FR 69928 (November 9, 2011) and 77 FR 12674 (March 1, 2012).

Compliance With Section 110(a)(2)

Section 172(c)(7) requires the SIP to meet applicable provisions of section 110(a)(2). As noted above, we conclude the California SIP meets the requirements of section 110(a)(2) applicable for purposes of this redesignation.

General and Transportation Conformity Requirements

With respect to the conformity requirement, section 176(c) of the CAA requires states to establish criteria and procedures to ensure that federally supported or funded projects “conform” to the air quality planning goals in the applicable SIP. The requirement to determine conformity applies to transportation plans, programs and projects developed, funded or approved under Title 23 U.S.C. and the Federal Transit Act (“transportation conformity”), as well as to other federally-supported or funded projects (“general conformity”). State conformity regulations must be consistent with federal conformity regulations that the CAA required EPA to promulgate relating to consultation, enforcement and enforceability.

SCAQMD's general conformity regulation, Rule 1901, was submitted to EPA on November 30, 1994 and approved on April 23, 1999 (see 64 FR 19916).

SCAQMD's transportation conformity regulation, Rule 1902, and subsequent rule revisions were submitted to EPA on September 9, 1994, May 10, 1996, and August 14, 1998, but the SIP has not been approved. EPA believes it is reasonable to interpret the conformity SIP requirements as not applying for purposes of a redesignation request under section 107(d) because state conformity rules are still required after redesignation, and federal conformity rules apply where state rules have not been approved. See Wall v. EPA, 265 F. 3d 426 (6th Cir. 2001), upholding this interpretation. See also, 60 FR 62748 (December 7, 1995).

Thus, EPA proposes to determine that, if EPA finalizes today's proposal and finally approves the emissions inventory and motor vehicle emissions budgets for SCAQMD, the State has a fully-approved SIP meeting all requirements applicable under section 110 and part D for the South Coast nonattainment area for purposes of redesignation. CAA Section 107(d)(3)(E)(v).

C. EPA Has Determined That the Improvement in Air Quality Is Due to Permanent and Enforceable Reductions in Emissions

Section 107(d)(3)(E)(iii) requires EPA to determine that the improvement in air quality is due to emission reductions that are permanent and enforceable resulting from the implementation of the applicable SIP and applicable federal air pollution control regulations and other permanent and enforceable regulations in order to approve a redesignation to attainment. Under this criterion, the State must be able to reasonably attribute the improvement in air quality to emissions reductions that are permanent and enforceable. Attainment resulting from temporary reductions in emissions rates (e.g., reduced production or shutdown) or unusually favorable meteorology would not qualify as an air quality improvement due to permanent and enforceable emission reductions. Calcagni memorandum, p. 4.

EPA may rely on prior SIP approvals in approving a redesignation request. Calcagni memo, p. 3, Wall v. EPA F.3d 416 (6th Cir. 2001), Southwestern Pennsylvania Growth Alliance v. Browner, 144 F.3d 984, 989-90 (6th Cir. 1998), as well as any additional measures it may approve in conjunction with a redesignation action. See 68 FR 25418, at 25426 (May 12, 2003), and citations therein.

The SCAQMD has jurisdiction over air quality planning requirements for the South Coast air basin. The SCAQMD has adopted numerous plans, rules, and revisions for the South Coast air basin in order to reduce PM10 and PM10 precursor emissions. The 2009 South Coast PM10 Redesignation Request and Maintenance Plan includes a list of control measures adopted and implemented by SCAQMD and approved into the SIP by EPA as reducing emissions to attain the 24-hour PM10 NAAQS.

Over the years, the SCAQMD has adopted and the State has submitted PM10 attainment plans and regulations for the South Coast PM10 nonattainment area. In 2003, we fully approved the PM10 attainment plan for the South Coast as meeting all CAA requirements for serious PM10 nonattainment areas, and as part of that action we also granted an attainment date extension for the area for both the 24-hour and annual PM10 NAAQS, from December 31, 2001 to December 31, 2006, pursuant to CAA section 188(e). For more information on the 2003 approval of the South Coast PM10 attainment plan, please see our proposed and final rulemaking notices. The proposal was published on December 17, 2002 (67 FR 77212) and the final approval was published on April 18, 2003 (68 FR 19316). Thus, the South Coast has a fully-approved PM10 SIP with respect to RACM, BACM, MSM, and other serious PM10 area planning requirements.

On August 1, 2003, the SCAQMD adopted the 2003 South Coast Air Quality Management Plan (“2003 South Coast AQMP”), including new motor vehicle emissions budgets for the area. CARB approved the plan on October 23, 2003, and submitted the plan to us on January 9, 2004. We approved the portions of this plan that addressed attainment of the PM10 standards in the South Coast on November 14, 2005. (See 70 FR 69081)

We have previously approved SCAQMD regulations for the control of directly-emitted PM10. See for example, our most recent approvals of revisions to SCAQMD Rules 403 and 1186 on March 10, 2008 (73 FR 12639), following SCAQMD adoption of amendments strengthening these rules.

The 2009 South Coast PM10 Redesignation Request and Maintenance Plan also provides a summary of the District rules and regulations that apply to sources of PM10 and PM10 precursors within the South Coast air basin. 2009 South Coast PM10 Redesignation Request and Maintenance Plan, page 16. While the focus of attaining and maintaining the PM10 standard in the South Coast PM10 nonattainment area has been on controls for fugitive dust, measures that control PM10 precursors, most of which have been SIP-approved, also benefit air quality.²¹ Those measures that EPA has already approved into the South Coast SIP contribute to attainment and maintenance of the PM10 NAAQS. We list these measures in Table 3.

²¹ While there are eight measures listed on page 16 of the 2009 South Coast PM10 Redesignation Request and Maintenance Plan, including rules to control fugitive dust and controlled burning, additional rules are listed in Table 3 which may help address the PM10 problem in the South Coast. We have approved all but one of these rules into the SIP, and the remaining rule, South Coast Rule 1127, was proposed for approval into the SIP on January 23, 2013. The comment period ended and no comments were received. A final approval of Rule 1127 is expected prior to our final action on the 2009 South Coast PM10 Redesignation Request and Maintenance Plan. (See 78 FR 7703, February 4, 2012).

Table 3—Most Recent EPA Approval Status of South Coast Rules for Attainment and Maintenance of the PM10 Standard
Rule No. | Rule name | Adoption date | Submittal date | FR date | FR cite
403 | Fugitive Dust | 06/03/05 | 10/05/05 | 03/10/08 | 73 FR 12639.
444 | Open Burning | 12/21/01 | 01/22/02 | 04/08/02 | 67 FR 16644.
445 | Wood Burning Devices | 03/07/08 | 07/18/08 | 06/11/09 | 74 FR 27716.
1105.1 | Reduction of PM10 and Ammonia Emissions from Fluid Catalytic Cracking Units | 11/07/03 | 06/03/04 | 01/04/06 | 71 FR 241.
1118 | Control of Emissions from Refinery Flares | 11/04/05 | 10/05/06 | 08/28/07 | 72 FR 49196.
1127 | Livestock Waste | 08/06/04 | 10/05/06 | Proposal February 4, 2013 | 78 FR 7703.
1133.2 | Emission Reductions from Co-Composting Operations | 01/10/03 | 06/05/03 | 07/21/04 | 69 FR 43518.
1156 | Further Reductions of Particulate Emissions from Cement Manufacturing Facilities | 03/06/09 | 04/29/09 | 9/4/12 | 77 FR 53773.
1157 | PM10 Emission Reductions from Aggregate and Related Operations | 09/08/06 | 05/15/10 | 03/07/12 | 77 FR 13495.
1158 | Storage, Handling, and Transport of Coke, Coal and Sulfur | 7/11/08 | 12/23/08 | 11/10/09 | 74 FR 57907.
1186 | PM10 Emissions from Paved and Unpaved Roads, and Livestock Operations | 07/11/08 | 12/23/08 | 03/07/12 | 77 FR 13495.

Source categories for which CARB has primary responsibility for reducing emissions in California include most new and existing on- and off-road engines and vehicles, motor vehicle fuels, and consumer products. In addition, California has unique authority under CAA section 209 (subject to a waiver by EPA) to adopt and implement new emission standards for many categories of on-road vehicles and engines, and new and in-use off-road vehicles and engines. California has been a leader in the development of some of the most stringent control measures nationwide for on-road and off-road mobile sources and the fuels that power them. These measures have helped reduce primary PM10 and PM10 precursors in the South Coast PM10 nonattainment area and throughout the State.

CARB's 2007 State Strategy and 2009 and 2011 updates to the State Strategy provide a recent summary of the measures adopted and implemented by the State.²² From 1994 to 2006, the State promulgated more than thirty-five rules that have achieved significant emission reductions contributing to attainment and continued attainment in the South Coast PM10 nonattainment area. See 2007 State Strategy, p. 38.²³ These measures include new emission standards and in-use requirements that have resulted in significant reductions in emissions of PM10 and PM10 precursors (i.e., NOX, SOX and VOCs) from categories such as passenger cars, trucks, buses, motorcycles, locomotives, cargo handling equipment, marine vessels and large off-road equipment. EPA has generally approved all of the State's measures that are not subject to the CAA section 209 waiver process into the SIP. See EPA's final approval of the South Coast PM2.5 plan at 76 FR 69928 (November 9, 2011) and accompanying Technical Support Document (TSD).²⁴

²² See “Air Resources Board's Proposed State Strategy for California's 2007 State Implementation Plan,” release date: April 26, 2007 (2007 State Strategy).

²³ The 2007 Proposed State Strategy can be found at: http://arb.ca.gov/planning/sip/2007sip/apr07draft/sipback.pdf. Page 38 of the Proposed State Strategy lists forty-five actions the State would undertake. CARB revised and updated the State Strategy in 2009 and 2011; see http://www.arb.ca.gov/planning/sip/2007sip/2007sip.htm.

²⁴ Final Technical Support Document and Responses to Comments, Final Rulemaking Action on the South Coast 2007 AQMP for PM2.5 and the South Coast portions of the Revised 2007 State Strategy, September 30, 2011. This document can be found at: http://www.regulations.gov/#!documentDetail;D=EPA-R09-OAR-2009-0366-0136, and in the docket for today's action.

Finally, in addition to the local district and State rules discussed above, the South Coast PM10 nonattainment area has also benefited from emission reductions from federal measures. These federal measures include EPA's national emissions standards for heavy-duty diesel trucks (66 FR 5001 (January 18, 2001)), certain emissions standards for new construction and farm equipment (Tier 2 and 3 non-road engines standards, 63 FR 56968 (October 23, 1998) and Tier 4 diesel non-road engine standards, 69 FR 38958 (June 29, 2004)), and locomotive engine standards (63 FR 18978 (April 16, 1998) and 73 FR 37096 (June 30, 2008)).

The on-road and off-road vehicle and engine standards cited above have contributed to improved air quality through the gradual, continued turnover and replacement of older vehicle models with newer models manufactured to meet increasingly stringent emissions standards.

Thus, EPA is proposing to find that the improvement in PM10 air quality for the South Coast air basin is the result of permanent and enforceable reductions in emissions from significant sources of PM10 and PM10 precursors in the basin, and that attainment of the PM10 standard will be maintained based on the continued implementation of these measures. EPA is proposing to find that the improvement in air quality is not the result of temporary reductions (e.g., economic downturns or shutdowns) or unusually favorable meteorology, but that the improvement in air quality in the South Coast PM10 nonattainment area is due to permanent and enforceable emissions reductions under 107(d)(3)(E)(iii).

D. The Area Must Have a Fully-Approved Maintenance Plan Under CAA Section 175A

Section 175A of the CAA sets forth the elements of a maintenance plan for areas seeking redesignation from nonattainment to attainment. We interpret this section of the Act to require, in general, the following core elements: Attainment inventory, maintenance demonstration plus a commitment to submit a second maintenance plan eight years after redesignation, monitoring network, verification of continued attainment, and contingency plan. See Calcagni memo, pages 8 through 13.

Under CAA section 175A, a maintenance plan must demonstrate continued attainment of the applicable NAAQS for at least ten years after EPA approves a redesignation to attainment. Eight years after redesignation, the State must submit a revised maintenance plan that demonstrates continued attainment for the subsequent ten-year period following the initial ten-year maintenance period. To address the possibility of future NAAQS violations, the maintenance plan must contain such contingency provisions that EPA deems necessary to promptly correct any violation of the NAAQS that occurs after redesignation of the area. Based on our review and evaluation, as detailed below, we are proposing to approve the 2009 South Coast PM10 Redesignation Request and Maintenance Plan because it meets the requirements of CAA section 175A.

1. Attainment Inventory

Section 172(c)(3) of the CAA requires plan submittals to include a comprehensive, accurate, and current inventory of emissions from all sources in the nonattainment area. In demonstrating maintenance in accordance with CAA section 175A and the Calcagni memo, the State should provide an attainment emissions inventory to identify the level of emissions in the area sufficient to attain the NAAQS. Where the State has made an adequate demonstration that air quality has improved as a result of the SIP, the attainment inventory will generally be an inventory of actual emissions at the time the area attained the standard. EPA's primary guidance in evaluating these inventories is the document entitled, “PM10 Emissions Inventory Requirements,” EPA, Office of Air Quality Planning and Standards, EPA-454/R-94-033 (September 1994) which can be found at: http://www.epa.gov/ttn/chief/eidocs/pm10eir.pdf.

A maintenance plan for the 24-hour PM10 standard must include an inventory of emissions of PM10 and its precursors (typically NOX, VOCs and SOX) in the area to identify a level of emissions sufficient to attain the 24-hour PM10 NAAQS. This inventory must be consistent with EPA's most recent guidance on emissions inventories for nonattainment areas available at the time and should represent emissions during the time period associated with the monitoring data showing attainment. The inventory must also be comprehensive, including emissions from stationary point sources, area sources, and mobile sources.

The 2009 South Coast PM10 Redesignation Request and Maintenance Plan provides an estimated daily PM10 emissions inventory for 2002 through 2030. The year 2010 provides an appropriate attainment year inventory because it is one of the years in the most recent three-year periods (2008-2010, 2009-2011, and 2010-2012) in which attainment of the PM10 NAAQS was monitored. Table 4 presents the PM10 emissions inventories for 2002 through 2030 provided in the 2009 South Coast PM10 Redesignation Request and Maintenance Plan.

Table 4—South Coast Annual Average PM10 Emissions for 2002 Through 2030 for PM10 Sources
[Tons per day]
Category | 2002 | 2006 | 2008 | 2010 | 2011 | 2012 | 2014 | 2020 | 2023 | 2030
Stationary—Point sources | 21.1 | 20.1 | 17.1 | 17.3 | 17.4 | 17.6 | 17.9 | 18.9 | 19.5 | 20.9
Construction and Demolition | 39.9 | 46.9 | 49.8 | 52.9 | 54.3 | 55.8 | 58.7 | 66.0 | 69.7 | 78.9
Entrained Road Dust/Paved | 125.4 | 123.5 | 122.3 | 123.4 | 124.0 | 124.5 | 125.8 | 129.3 | 131.1 | 135.2
Entrained Road Dust/Unpaved | 13.6 | 11.5 | 10.3 | 10.3 | 10.3 | 10.3 | 10.3 | 10.2 | 10.2 | 10.2
Farming Operations | 0.8 | 0.7 | 0.6 | 0.6 | 0.6 | 0.6 | 0.5 | 0.4 | 0.4 | 0.3
Fugitive Windblown Dust | 2.8 | 2.4 | 2.3 | 2.2 | 2.2 | 2.1 | 2.0 | 1.8 | 1.7 | 1.6
Other Area Sources | 23.3 | 28.8 | 29.4 | 30.0 | 30.3 | 30.6 | 31.2 | 32.6 | 33.3 | 35.0
On-road Mobile Sources | 24.8 | 26.5 | 24.9 | 24.3 | 24.3 | 24.2 | 24.0 | 23.6 | 23.6 | 24.7
Off-road Mobile Sources | 23.1 | 22.5 | 20.7 | 19.9 | 19.6 | 19.2 | 18.4 | 17.4 | 18.1 | 22.7
Total PM10 | 274.7 | 282.8 | 277.5 | 280.9 | 283.0 | 284.8 | 288.7 | 300.3 | 307.7 | 329.6
Source: 2009 South Coast PM10 Redesignation Request and Maintenance Plan, page 22.

The 2009 South Coast PM10 Redesignation Request and Maintenance Plan's inventory for sources within the South Coast air basin is subdivided into three subcategories: stationary sources, area sources, and mobile sources. Direct PM10 emissions in the South Coast are dominated by reentrained road dust from paved and unpaved roads, construction and demolition, and on-and off-road mobile sources. The 2009 South Coast PM10 Redesignation Request and Maintenance Plan estimates emissions for unpaved and paved roads at 133.7 tons per day (47.6% of total emissions) in 2010.

Within the South Coast air basin, in addition to being directly emitted into the atmosphere (e.g., primary particles), PM10 emissions can be formed through atmospheric chemical reactions from precursor gases (e.g., secondary particles). Secondary particles, such as sulfates, nitrates, and complex carbon compounds, are formed from reactions with oxides of sulfur, oxides of nitrogen, VOCs and ammonia. The District includes emissions inventories in the 2009 South Coast PM10 Redesignation Request and Maintenance Plan for precursors of PM10 (NOX, SOX, and VOCs). The District estimates that 56% of the average peak PM10 mass is attributable to PM2.5 and 44% to coarse PM (fugitive dust or PM10). See 2009 South Coast PM10 Redesignation Request and Maintenance Plan, p. 5. Table 5 presents the emissions inventories for PM10, PM2.5 and PM10 precursors (NOX, VOC and SOX) for the same years as were presented in Table 4.

Table 5—South Coast Annual Average PM10 and PM10 Precursor Baseline Emissions for 2002 Through 2030 for PM10 Sources
[Tons per day]
Category | 2002 | 2006 | 2008 | 2010 | 2011 | 2012 | 2014 | 2020 | 2023 | 2030
PM10 | 274.7 | 282.8 | 277.5 | 280.9 | 283.0 | 284.8 | 288.7 | 300.3 | 307.8 | 329.6
PM2.5 | 99.1 | 104.2 | 101.5 | 101.4 | 101.5 | 101.6 | 101.6 | 103.2 | 105.2 | 113.6
NOX | 1093.2 | 970.7 | 853.7 | 774.7 | 742.9 | 711.6 | 653.6 | 525.2 | 506.4 | 511.8
VOC | 844.2 | 695.9 | 608.0 | 572.4 | 559.4 | 547.9 | 527.7 | 498.5 | 496.0 | 508.4
SOX | 53.3 | 54.8 | 40.9 | 39.2 | 40.1 | 40.7 | 42.8 | 51.4 | 55.1 | 71.7
Source: 2009 South Coast PM10 Redesignation Request and Maintenance Plan, page 21.

SCAQMD projects that overall, direct PM10 emissions will grow from 2008 to 2030 because of growth in the construction/demolition source categories, offsetting emissions reductions from other sources. The District's modeling simulations indicate that despite the growth, the South Coast nonattainment area will continue to attain the federal 24-hour PM10 standard because of the significant improvement from the decreases in NOx and VOC emissions leading to a net improvement in PM10 air quality over the 2002 to 2030 timeframe.

In conclusion, EPA believes that the selection of 2010 as the attainment year inventory is appropriate since the area was determined to have attained by the 2008-2010 period. Based on our review of the 2009 South Coast PM10 Redesignation Request and Maintenance Plan, we propose to find that the emissions inventories for 2010 in the 2009 South Coast PM10 Redesignation Request and Maintenance Plan are comprehensive, current, and accurate in that they include estimates of PM10 and its precursors from all of the relevant source categories, which the 2009 South Coast PM10 Redesignation Request and Maintenance Plan divides among stationary, area wide, and mobile sources. Therefore, we are proposing to approve the 2010 inventory, which serves as the 2009 South Coast PM10 Redesignation Request and Maintenance Plan's attainment year inventory, as satisfying the requirements of section 172(c)(3) of the CAA for the purposes of redesignation of the South Coast PM10 nonattainment area to attainment of the 24-hour PM10 NAAQS.

2. Maintenance Demonstration

Section 175A(a) of the CAA requires a demonstration of maintenance of the NAAQS for at least 10 years after redesignation. Generally, a State may demonstrate maintenance of the NAAQS by either showing that future emissions of a pollutant or its precursors will not exceed the level of the attainment inventory, or by modeling to show that the future anticipated mix of sources and emission rates will not cause a violation of the NAAQS. For areas that are required under the Act to submit modeled attainment demonstrations, the maintenance demonstration should use the same type of modeling. Calcagni memorandum, page 9.

For the 2009 South Coast PM10 Redesignation Request and Maintenance Plan, the State chose the second option and demonstrated maintenance of the 24-hour PM10 NAAQS by modeling to show that the future anticipated mix of sources and emission rates will not cause a violation of the NAAQS in the South Coast Basin as discussed below.

Future PM10 levels in the South Coast PM10 nonattainment area were modeled in a two-part analysis, using separate methods for the fine fraction (PM2.5) and the coarse fraction (PM2.5 to PM10) of PM10. For the fine fraction of PM10, the modeling demonstration was based on site-specific relative reduction factors that were generated from the regional modeling analysis for PM2.5, which accounted for the chemical formation of secondary particulate matter.²⁵ The future levels of the “coarse” fraction (PM2.5-10) of the PM10 mass were projected by emissions-based rollback. The projected total PM10 mass was estimated by adding the fine fraction of the modeling results to the coarse fraction of the modeling results.

²⁵ See TSD section II-D.

The reduction in particulate matter precursor emissions results in a reduction in the levels of PM10, demonstrating maintenance of the PM10 NAAQS for the South Coast Air Basin for at least ten years after redesignation.²⁶ The modeled PM10 levels are below the 24-hour PM10 NAAQS level of 150 µg/m³ for each of the modeled years of 2010, 2011, 2012, 2014, 2020, 2023, and 2030 throughout the South Coast Air Basin.²⁷ The emissions projections for the PM10 precursors NOX and VOC in the South Coast Air Basin have decreased significantly since 2002 and are expected to continue to decrease until 2023, and then increase slightly in 2030. Although primary PM10 emissions and emissions of SOX are projected to increase during this time period, the significant improvement from the decreases in NOX and VOC emissions lead to a net improvement in PM10 air quality over the 2002 to 2030 timeframe.

²⁶ 24-hour average PM10 values were projected for the years 2010, 2011, 2012, 2014, 2020, 2023, and 2030. 2009 South Coast PM10 Redesignation Request and Maintenance Plan, p. 69.

²⁷ The maximum projected 24-hour PM10 level for any modeled year is 141 μg/m³ in 2030 in San Bernardino County.

EPA proposes to find that the forecasted decreases in PM10 levels, based on the decrease in particulate matter precursor emissions, are consistent with the control measures (discussed above) that are being implemented. Based on our review of the information presented in the 2009 South Coast PM10 Redesignation Request and Maintenance Plan, we propose to find that the State has shown that attainment of the PM10 standard will be maintained in the South Coast Air Basin for at least ten years after redesignation.

3. Verification of Continued Attainment

In demonstrating maintenance, continued attainment of the NAAQS can be verified through operation of an appropriate air quality monitoring network. The Calcagni memo states that the maintenance plan should contain provisions for continued operation of air quality monitors that will provide such verification. Calcagni memo, p. 11.

The SCAQMD has committed to continue to operate an appropriate air quality monitoring network in accordance with 40 CFR part 58, to continue daily monitoring of PM10 at the existing monitoring site reporting the highest PM10 concentration, to verify the ongoing attainment status of the area. 2009 South Coast PM10 Redesignation Request and Maintenance Plan, Chapter 3, page 26. The SCAQMD monitoring network for PM10 is part of an EPA-approved air quality monitoring network.²⁸

²⁸ See footnotes 7-10.

4. Contingency Provisions

Contingency provisions are required for maintenance plans under section 175A of the CAA to promptly correct any violations of the NAAQS that occur after redesignation of the area. Such provisions must include a requirement that the State will implement all measures with respect to the control of the air pollutant concerned that were contained in the SIP for the area before redesignation of the area as an attainment area. These contingency provisions are distinguished from those generally required for nonattainment areas under section 172(c)(9) in that they are not required to be fully-adopted measures that will take effect without further action by the state in order for the maintenance plan to be approved. However, the contingency plan is considered to be an enforceable part of the SIP and should ensure that the contingency measures are adopted expeditiously once they are triggered by a specified event.

The Calcagni memo states that the contingency provisions of the maintenance plan should identify the measures to be adopted, a schedule and procedure for adoption and implementation, and a time limit for action by the State. The memo also states that the contingency provisions should identify indicators or triggers which will be used to determine when the contingency measures need to be implemented. While the memo suggests inventory or monitoring indicators, it states that contingency provisions will be evaluated on a case-by-case basis.

EPA has long approved contingency provisions that rely on reductions from measures that are already in place but are over and above those relied on for attainment and RFP under CAA section 172(c)(9). See, e.g., 62 FR 15844 (April 3, 1997); 62 FR 66279 (December 18, 1997); 66 FR 30811 (June 8, 2001); 66 FR 586 and 66 FR 634 (January 3, 2001). This interpretation has been upheld in LEAN v. EPA, 382 F.3d 575 (5th Cir. 2004), where the court set forth its reasoning for accepting excess reductions from already adopted measures as contingency measures.

Our interpretation that excess emission reductions can appropriately serve as section 172(c)(9) contingency measures is equally applicable to section 175A(d) contingency measures. EPA has approved maintenance plans under section 175A that included contingency provisions relying on measures to be implemented prior to any post-redesignation NAAQS violation. See 60 FR 27028, 27029 (May 22, 1995); 73 FR 66759, 66,769 (November 12, 2008).

As required by section 175A of the CAA, SCAQMD has adopted a contingency plan to address possible future PM10 air quality problems. The contingency provisions in the 2009 South Coast PM10 Redesignation Request and Maintenance Plan are contained in Section 3.4 on pages 27-29 of the plan and were clarified in a subsequent letter from the District.²⁹ The District clarified in the letter to EPA that the trigger to implement contingency provisions is a violation of the PM10 NAAQS (greater than or equal to 155 ug/m³), and that the timeframe for triggering and implementing maintenance plan contingency provisions would not exceed 24 months.³⁰ Should a monitored violation of the PM10 standard occur, not caused by an exceptional event, the District commits to first determine if there are available emissions reductions from adopted rules that were not relied upon for PM10 maintenance that could serve as contingency measures. If no additional reductions are available, then the District commits to identify, adopt, and implement new rules or amend, adopt, and implement existing rules (such as South Coast Rules 403, 444, 445, 1157, 1158, and 1186) as contingency measures to achieve emissions reductions within 24 months of the determination that a violation of the PM10 standard has occurred.

²⁹ See Letter, Elaine Chang, DrPH, Deputy Executive Officer, South Coast Air Quality Management District, to Deborah Jordan, Director, Air Division, US Environmental Protection Agency, Region 9, dated March 21, 2013 in the docket for today's action.

³⁰ See Letter, Elaine Chang, DrPH, Deputy Executive Officer, South Coast Air Quality Management District, to Deborah Jordan, Director, Air Division, US Environmental Protection Agency, Region 9, dated March 21, 2013 in the docket for today's action. The District also clarified that the 24-month timeframe does not apply to exceptional events for which the District has submitted exceptional events documentation to EPA for approval.

Finally, the District is not proposing to remove or cease implementing any existing SIP-approved measures. Thus, for the reasons set forth above, EPA is proposing to find that the 2009 South Coast PM10 Redesignation Request and Maintenance Plan is consistent with the maintenance plan contingency provision requirements of the CAA and EPA guidance.

5. Commitment To Submit Subsequent Maintenance Plan Revision

Eight years after redesignation, the State must submit a revised maintenance plan that demonstrates continued attainment for the subsequent ten-year period following the initial ten-year maintenance period. The 2009 South Coast PM10 Redesignation Request and Maintenance Plan contains a commitment in Section 3.5 on page 29 to submit a second maintenance plan eight years after redesignation to show maintenance for at least the next ten year period.

In light of the discussion set forth above, EPA is proposing to approve the 2009 South Coast PM10 Redesignation Request and Maintenance Plan for the South Coast air basin as meeting the requirements of CAA section 175A.

E. Transportation Conformity and Motor Vehicle Emissions Budgets

Under section 176(c) of the CAA, transportation plans, programs and projects in the nonattainment or maintenance areas that are funded or approved under title 23 U.S.C. and the Federal Transit Laws (49 U.S.C. chapter 53) must conform to the applicable SIP. In short, a transportation plan and program are deemed to conform to the applicable SIP if the emissions resulting from the implementation of that transportation plan and program are less than or equal to the motor vehicle emissions budgets (budgets) established in the SIP for the attainment year, maintenance year and other years. See, generally, 40 CFR part 93 for the federal conformity regulations and 40 CFR 93.118 specifically for how budgets are used in conformity.

The budgets serve as a ceiling on emissions that would result from an area's planned transportation system. The budget concept is further explained in the preamble to the November 24, 1993, transportation conformity rule (58 FR 62188). The preamble describes how to establish budgets in the SIP and how to revise the budgets if needed.

Maintenance plan submittals must specify the maximum emissions of transportation-related PM10 and PM10 precursor emissions allowed in the last year of the maintenance period, i.e., the budgets. Budgets may also be specified for additional years during the maintenance period. The submittal must also demonstrate that these emissions levels, when considered with emissions from all other sources, are consistent with maintenance of the NAAQS. In order for EPA to find these emissions levels or budgets adequate and approvable, the submittal must meet the conformity adequacy provisions of 40 CFR 93.118(e)(4) and (5).

EPA's process for determining adequacy of a budget consists of three basic steps: (1) Notifying the public of a SIP submittal; (2) providing the public the opportunity to comment on the budget during a public comment period; and, (3) making a finding of adequacy or inadequacy. The process for determining the adequacy of a submitted budget is codified at 40 CFR 93.118(f).

EPA can notify the public by either posting an announcement that EPA has received SIP budgets on EPA's adequacy Web site (40 CFR 93.118(f)(1)), or via a Federal Register notice of proposed rulemaking when EPA reviews the adequacy of an implementation plan budget simultaneously with its review and action on the SIP itself (40 CFR 93.118(f)(2)).³¹ Today we are notifying the public that EPA will be reviewing the adequacy of the budgets in the submitted maintenance plan. The public has a 30-day comment period (see DATES section of this notice). After this comment period, EPA will indicate whether the budgets are adequate via the final rulemaking or on the adequacy Web site, according to 40 CFR 93.118(f)(2)(iii).

³¹ The availability of the SIP submittal with budgets can be announced for public comment on EPA's adequacy Web site at http://www.epa.gov/otaq/stateresources/transconf/reg9sips.htm#ca which provides a 30-day public comment period. The public can then comment directly on this Web site.

The 2009 South Coast PM10 Redesignation Request and Maintenance Plan submitted by CARB contains new PM10, reactive organic gases (ROG) ³² and NOX budgets for the South Coast PM10 nonattainment area for 2010, 2020, and 2030. The PM10, ROG, and NOX budgets for the South Coast PM10 nonattainment area are summarized in Table 6. Our adequacy review is detailed in the TSD accompanying today's Federal Register notice. Therefore, the public comment period for the adequacy finding will be concurrent with the public comment period for our proposed action on the 2009 South Coast PM10 Maintenance Plan and Redesignation Request.

³² The State of California uses the term reactive organic gases (ROG) where EPA uses the term volatile organic compounds (VOC). We use the terms interchangeably here.

Table 6—Summary of Motor Vehicle Emissions Budgets in the South Coast PM10 Redesignation Request and Maintenance Plan
Budget Year→ | Emissions in tons per day: 2010 | Emissions in tons per day: 2020 | Emissions in tons per day: 2030
ROG | 182 | 110 | 81
NOX | 372 | 180 | 116
PM10 | 159 | 164 | 175
Source: 2009 South Coast PM10 Redesignation Request and Maintenance Plan submittal, CARB Staff Report, Analysis of the South Coast Air Basin PM10 Redesignation Request, Maintenance Plan, and Conformity Budgets, Table 4, page 10.

In Chapter 3 of the 2009 South Coast PM10 Redesignation Request and Maintenance Plan, a PM10 modeling sensitivity analysis was conducted for the years 2010 through 2030 to evaluate the impact of adding 20 tpd of directly emitted PM10 to the Basin inventory. The results of this sensitivity analysis indicated that the additional 20 tpd of directly-emitted PM10 emissions would not cause regional 24-hour PM10 concentrations to exceed 150 μg/m³. The analysis predicted that the maximum 24-hour average PM10 concentration could potentially reach 141 μg/m³ (94 percent of the standard) if the 20 tpd of directly-emitted PM10 were added to the baseline inventory. Thus the South Coast PM10 modeling indicated a 20 tpd safety margin that can be added to the baseline inventory without causing ambient concentrations to exceed 150 ug/m³ during the 2010 to 2030 period.³³

³³ See 2009 South Coast PM10 Redesignation Request and Maintenance plan, p. 25.

After consultation with the District and the metropolitan planning organization for the region, the Southern California Association of Governments (SCAG), 5 tpd of directly-emitted PM10 were added to the conformity budget for 2030. In addition, the 2030 ROG budget was increased by 3 tpd, which is equivalent to 1 ton of PM10 based on established modeling ratios. Therefore, total additions for the 2030 budget are the equivalent of 6 tpd of PM10. The additional 6 tpd of PM10 represents only 30 percent of the 20 tpd PM10 safety margin identified in the 2009 South Coast PM10 Redesignation Request and Maintenance Plan. The 6 tpd of PM10 allows for anticipated growth while setting an emissions budget that ensures continued maintenance of the standard. The ROG budgets for 2010 and 2020 were also increased by 7 tpd and 4 tpd, respectively. Based on established modeling ratios, these levels are also equivalent to 1 tpd of PM10 emissions in each of these years.

EPA released an update to Compilation of Air Pollutant Emission Factors (AP-42) in January of 2011, which revised the equation for estimating paved road dust emissions based on an updated regression that included new emission tests results.³⁴ SCAQMD staff conducted an additional technical analysis of their paved road emission projections using the updated AP-42 equation and the latest planning assumptions, to ensure that the motor vehicle emission budgets were still consistent with the currently approved modeling tools and data and the maintenance demonstration. The technical analysis showed that the updated paved road emissions provided a significant safety margin as compared to the attainment inventory emissions of paved road dust for all years for which motor vehicle emission budgets were estimated. Therefore, the total motor vehicle emissions budgets are consistent with maintenance of the standard.

³⁴ AP-42, Compilation of Air Pollutant Emission Factors, is the primary compilation of EPA's emission factor information. It contains emission factors and process information for more than 200 air pollution source categories, including paved roads.

Based on the information presented in the 2009 South Coast PM10 Redesignation Request and Maintenance Plan and our adequacy review to date, we propose to approve the motor vehicle emissions budgets in the 2009 South Coast PM10 Redesignation Request and Maintenance Plan as meeting the requirements of the CAA and EPA regulations.

VI. Proposed Actions and Request for Public Comment

Based on our review of the 2009 South Coast PM10 Redesignation Request and Maintenance Plan submitted by the State, air quality monitoring data, and other relevant materials, EPA is proposing to find that the State has addressed all the necessary requirements for redesignation of the South Coast air basin to attainment of the PM10 NAAQS, pursuant to CAA sections 107(d)(3)(E) and 175A.

First, under CAA section 107(d)(3)(D), we are proposing to approve CARB's request, which accompanied the submittal of the maintenance plan, to redesignate the South Coast PM10 nonattainment area to attainment for the 24-hour PM10 NAAQS. We are doing so based on our conclusion that the area has met the five criteria for redesignation under CAA section 107(d)(3)(E). Our conclusion is based on our proposed determination that the area has attained the 24-hour PM10 NAAQS; that relevant portions of the California SIP are fully approved; that the improvement in air quality is due to permanent and enforceable reductions in emissions; that California has met all requirements applicable to the South Coast PM10 nonattainment area with respect to section 110 and part D of the CAA; and is based on our proposed approval of the 2009 South Coast PM10 Maintenance Plan as part of this action.

Second, in connection with the 2009 South Coast PM10 Redesignation Request and Maintenance Plan, EPA proposes to find that the maintenance demonstration showing how the area will continue to attain the 24-hour PM10 NAAQS for at least 10 years beyond redesignation (i.e., through 2030) and the associated motor vehicle emissions budgets (Table 6 of this notice) meet applicable CAA requirements for maintenance plans and transportation conformity requirements under 40 CFR 93.118(e). We are also proposing to approve the 2010 emissions inventory as meeting applicable requirements for emissions inventories in CAA section 175A and 172.

We are soliciting comments on these proposed actions. We will accept comments from the public on this proposal for 30 days following publication of this proposal in the Federal Register. We will consider these comments before taking final action.

VII. Statutory and Executive Order Reviews

Under the CAA, redesignation of an area to attainment and the accompanying approval of a maintenance plan under section 107(d)(3)(E) are actions that affect the status of a geographical area and do not impose any additional regulatory requirements on sources beyond those imposed by State law. A redesignation to attainment does not in and of itself create any new requirements, but rather results in the applicability of requirements contained in the CAA for areas that have been redesignated to attainment. Moreover, the Administrator is required to approve a SIP submittal that complies with the provisions of the Act and applicable Federal regulations. 42 U.S.C. 7410(k); 40 CFR 52.02(a). Thus, in reviewing SIP submittals, EPA's role is to approve State choices, provided that they meet the criteria of the Clean Air Act. Accordingly, this action merely approves State law as meeting Federal requirements and does not impose additional requirements beyond those imposed by State law. For these reasons, these actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of Section 12(d) of the National Technology Transfer and Advancement Act of 1995 (15 U.S.C. 272 note) because application of those requirements would be inconsistent with the Clean Air Act; and

• Do not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects

40 CFR Part 52

Environmental protection, Air pollution control, Incorporation by reference, Intergovernmental relations, Particulate matter, Reporting and recordkeeping requirements.

40 CFR Part 81

Environmental protection, Air pollution control, National parks, Wilderness areas.

Authority: 42 U.S.C. 7401 et seq.

Dated: March 22, 2013.
Jared Blumenfeld,
Regional Administrator, Region IX.

[FR Doc. 2013-08117 Filed 4-5-13; 8:45 am]

BILLING CODE 6560-50-P